DEPARTMENT OF LABOR

Employment and Training Administration

Notice of Determinations Regarding Eligibility To Apply for Worker Adjustment Assistance and Alternative Trade Adjustment Assistance

In accordance with Section 223 of the Trade Act of 1974, as amended (19 U.S.C. 2273) the Department of Labor herein presents summaries of determinations regarding eligibility to apply for trade adjustment assistance for workers (TA-W) number and alternative trade adjustment assistance (ATAA) by (TA-W) number issued during the period of October 1 through October 5, 2007.

In order for an affirmative determination to be made for workers of a primary firm and a certification issued regarding eligibility to apply for worker adjustment assistance, each of the group eligibility requirements of Section 222(a) of the Act must be met.

I. Section (a)(2)(A) all of the following must be satisfied:

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision; or

II. Section (a)(2)(B) both of the following must be satisfied:

A. A significant number or proportion of the workers in such workers' firm, or an appropriate subdivision of the firm, have become totally or partially separated, or are threatened to become totally or partially separated;

B. There has been a shift in production by such workers' firm or subdivision to a foreign country of articles like or directly competitive with articles which are produced by such firm or subdivision; and

C. One of the following must be satisfied:

1. The country to which the workers' firm has shifted production of the articles is a party to a free trade agreement with the United States;

2. The country to which the workers' firm has shifted production of the articles to a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made for secondarily affected workers of a firm and a certification issued regarding eligibility to apply for worker adjustment assistance, each of the group eligibility requirements of Section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) Either—

(A) The workers' firm is a supplier and the component parts it supplied for the firm (or subdivision) described in paragraph (2) accounted for at least 20 percent of the production or sales of the workers' firm; or

(B) A loss or business by the workers' firm with the firm (or subdivision) described in paragraph (2) contributed importantly to the workers' separation or threat of separation.

In order for the Division of Trade Adjustment Assistance to issue a certification of eligibility to apply for Alternative Trade Adjustment Assistance (ATAA) for older workers, the group eligibility requirements of Section 246(a)(3)(A)(ii) of the Trade Act must be met.

1. Whether a significant number of workers in the workers' firm are 50 years of age or older.

2. Whether the workers in the workers' firm possess skills that are not easily transferable.

3. The competitive conditions within the workers' industry (i.e., conditions within the industry are adverse).

Affirmative Determinations for Worker Adjustment Assistance

The following certifications have been issued. The date following the company name and location of each determination references the impact date for all workers of such determination.

The following certifications have been issued. The requirements of Section 222(a)(2)(A) (increased imports) of the Trade Act have been met.

TA-W-61,959; Sewell Clothing Company, Inc., Bremen, GA: July 18, 2006

The following certifications have been issued. The requirements of Section 222(a)(2)(B) (shift in production) of the Trade Act have been met.

None

The following certifications have been issued. The requirements of Section 222(b) (supplier to a firm whose workers are certified eligible to apply for TAA) of the Trade Act have been met.

None

The following certifications have been issued. The requirements of Section 222(b) (downstream producer for a firm whose workers are certified eligible to apply for TAA based on increased imports from or a shift in production to Mexico or Canada) of the Trade Act have been met.

None

Affirmative Determinations for Worker Adjustment Assistance and Alternative Trade Adjustment Assistance

The following certifications have been issued. The date following the company name and location of each determination references the impact date for all workers of such determination.

The following certifications have been issued. The requirements of Section 222(a)(2)(A) (increased imports) and Section 246(a)(3)(A)(ii) of the Trade Act have been met.

TA-W-62,149; Aptara, Inc., York, PA: September 13, 2006.

TA-W-62,173; United Memorial Bible Services, Gastonia, NC: September 19, 2006.

TA-W-62,181; Louisiana Pacific Corporation, Engineered Wood Products Division, Hines, OR: September 19, 2006.

TA-W-61,817; Hayes Lemmerz International, Northville, MI: July 10, 2006.

TA-W-61,849; Ada Gage, Inc., Ada, MI: July 19, 2006.

TA-W-61,931; Tyco Electronics, On-Site Leased Workers of Kelly Staffing; East Berlin, PA: August 2, 2006

TA-W-62,028; Deluxe Tool and Engineering, Inc., Wyoming, MN: August 22, 2006

TA-W-62,103; New River Industries, Inc., New York, NY: August 28, 2006

TA-W-62,132; Charbert, Division of NFA Corporation; Alton, RI: September 11, 2006

TA-W-62,195; Deluxe Media Services LLC, Wayne, MI: September 18, 2006

The following certifications have been issued. The requirements of Section 222(a)(2)(B) (shift in production) and Section 246(a)(3)(A)(ii) of the Trade Act have been met.

TA-W-61,977; Hoover Precision Products, Inc., Erwin, TN: August 10, 2006.

TA-W-62,037; Cadillac Rubber and Plastics, Inc., dba Avon Automotive, On-Site Leased Workers of Northern Staffing; Cadillac, MI: August 20, 2006

TA-W-62,041; Johnson Controls, Frigid Coil West Division, On-Site Leased Workers From Personnel Plus, Inc., Santa Fe Springs, CA: August 9, 2006

TA-W-62,069; Delphi Corporation, Automotive Holdings Group, Plant 6, On-Site Leased Workers of Securatas; Flint, MI: August 27, 2006

TA-W-62,069A; Delphi Corporation, Automotive Holdings Group, Plant 2, On-Site Leased Workers of Securatas; Flint, MI: August 27, 2006

TA-W-62,081; Meridian Automotive Systems Composites Operations, aka Meridian Automotive Systems; Jackson, OH: August 30, 2006

TA-W-62,112; Fry's Metals, Inc., d/b/a Alpha Metals, Inc., Division of Cookson Electronics; Alpharetta, GA: August 31, 2006

TA-W-62,159; CML Innovative Technologies, Division of CM Holdings International, LLC; Hackensack, NJ: September 13, 2007

TA-W-62,172; Carhartt, Inc., Galesburg, IL: September 19, 2006

TA-W-62,187; Bock USA, Inc., Monroe, CT: September 20, 2006

TA-W-62,193; Illinois Tool Works, ITWSouthland Division; Virginia Beach, VA: September 17, 2006

TA-W-62,217; The Hershey Company, Oakdale Plant; Oakdale, CA: September 26, 2006

TA-W-62,009; Global Motorsport Group, Santee Manufacturing Division; Valencia, CA: August 3, 2006

TA-W-62,040; The Colibri Group, Providence, RI: August 23, 2006

TA-W-62,135; Children's Apparel Network LTD, New York, NY: August 15, 2006

TA-W-62,142; Powerwave Technologies, Inc., El Dorado Hills, CA: September 6, 2006

TA-W-62,164; Huntleigh Healthcare, L.L.C., Eatontown, NJ: September 18, 2006

TA-W-62,185; T.J. Corporation, dba Halco, Belle Vernon, PA: September 19, 2006

The following certifications have been issued. The requirements of Section 222(b) (supplier to a firm whose workers are certified eligible to apply for TAA) and Section 246(a)(3)(A)(ii) of the Trade Act have been met.

TA-W-62,100; Microfibers, Inc., Winston-Salem, NC: August 14, 2006

TA-W-62,114; Traer Manufacturing, A Subsidiary of Cosma Body Systems, On-Site Leased Workers From Manpower & USA; Traer, IA: September 5, 2006

The following certifications have been issued. The requirements of Section 222(b) (downstream producer for a firm whose workers are certified eligible to apply for TAA based on increased imports from or a shift in production to Mexico or Canada) and Section 246(a)(3)(A)(ii) of the Trade Act have been met.

None

Negative Determinations for Alternative Trade Adjustment Assistance

In the following cases, it has been determined that the requirements of 246(a)(3)(A)(ii) have not been met for the reasons specified.

The Department has determined that criterion (1) of Section 246 has not been met. The firm does not have a significant number of workers 50 years of age or older.

TA-W-61,959; Sewell Clothing Company, Inc., Bremen, GA.

The Department has determined that criterion (2) of Section 246 has not been met. Workers at the firm possess skills that are easily transferable.

None

The Department has determined that criterion (3) of Section 246 has not been met. Competition conditions within the workers' industry are not adverse.

None.

Negative Determinations for Worker Adjustment Assistance and Alternative Trade Adjustment Assistance

In the following cases, the investigation revealed that the eligibility criteria for worker adjustment assistance have not been met for the reasons specified.

Because the workers of the firm are not eligible to apply for TAA, the workers cannot be certified eligible for ATAA.

The investigation revealed that criteria (a)(2)(A)(I.A.) and (a)(2)(B)(II.A.) (employment decline) have not been met.

TA-W-61,844; Carter-Pertaine, Inc., A Subsidiary of DB Soft, Inc., Houston, TX.

TA-W-62,174; Penn Union Corporation, Edinboro, PA.

The investigation revealed that criteria (a)(2)(A)(I.B.) (Sales or production, or both, did not decline) and (a)(2)(B)(II.B.) (shift in production to a foreign country) have not been met.

TA-W-62,125; Parlex USA, Laminated Cable Division; Methuen, MA.

The investigation revealed that criteria (a)(2)(A)(I.C.) (increased imports) and (a)(2)(B)(II.B.) (shift in production to a foreign country) have not been met.

TA-W-61,888; J.M. Huber Corporation, Engineered Materials/Kaolin Division, Macon, GA.

TA-W-62,027; General Products Corporation, Jackson, MI.

TA-W-62,092; H and T Waterbury, Inc., Waterbury, CT.

The workers' firm does not produce an article as required for certification under Section 222 of the Trade Act of 1974.

TA-W-62,127; JP Morgan Chase Bank NA, Lexington, KY.

TA-W-62,148; Unicare Life and Health Insurance Co., Subsidiary of Wellpoint, Inc., Bolingbrook, IL.

The investigation revealed that criteria of Section 222(b)(2) has not been met. The workers' firm (or subdivision) is not a supplier to or a downstream producer for a firm whose workers were certified eligible to apply for TAA.

None.

I hereby certify that the aforementioned determinations were issued during the period of October 1 through October 5, 2007. Copies of these determinations are available for inspection in Room C-5311, U.S. Department of Labor, 200 Constitution Avenue, NW., Washington, DC 20210 during normal business hours or will be mailed to persons who write to the above address.

Dated: October 10, 2007.
Ralph DiBattista,
Director, Division of Trade Adjustment Assistance.

[FR Doc. E7-20400 Filed 10-16-07; 8:45 am]

BILLING CODE 4510-FN-P